DEPARTMENT OF DEFENSE

Defense Acquisition Regulations System

[Docket Number DARS-2024-0036; OMB Control Number 0704-0231]

Information Collection Requirement; Defense Federal Acquisition Regulation Supplement (DFARS) Part 237, Service Contracting, and Related Clauses and Forms

AGENCY: Defense Acquisition Regulations System; Department of Defense (DoD).

ACTION: Notice.

SUMMARY: The Defense Acquisition Regulations System has submitted to OMB for clearance the following proposal for collection of information under the provisions of the Paperwork Reduction Act.

DATES: Consideration will be given to all comments received by February 13, 2025.

ADDRESSES: Written comments and recommendations for the proposed information collection should be sent within 30 days of publication of this notice to https://www.reginfo.gov/public/do/PRAMain. Find this particular information collection by selecting “Currently under 30-day Review—Open for Public Comments” or by using the search function.

You may also submit comments, identified by docket number and title, by the following method: Federal eRulemaking Portal: https://www.regulations.gov. Follow the instructions for submitting comments.

FOR FURTHER INFORMATION CONTACT: Tucker Lucas, 571-372-7574, or whs.mc-alex.esd.mbx.dd-dod-information-collections@mail.mil.

SUPPLEMENTARY INFORMATION:

Title and OMB Number: Defense Federal Acquisition Regulation Supplement (DFARS) Part 237, Service Contracting, associated DFARS Clauses at DFARS 252.237, DD Form 2062, and DD Form 2063; OMB Control Number 0704-0231.

Affected Public: Businesses or other for-profit and not-for-profit institutions.

Respondent's Obligation: Required to obtain or retain benefits.

Frequency: On occasion.

Number of Respondents: 7,018.

Responses per Respondent: 3.8.

Annual Responses: 26,738.

Average Burden per Response: 1.01 hours.

Annual Burden Hours: 26,738.

Needs and Uses: This information collection is used for the following purposes—

a. The information collected pursuant to paragraph(c)of the solicitation provision at DFARS 252.237-7000, Notice of Special Standards of Responsibility, is used to verify that the offeror is properly licensed in the state or other political jurisdiction in which the offeror operates its professional practice.

b. The contract clause at DFARS 252.237-7011, Preparation History; the DD Form 2062, Record of Preparation and Disposition of Remains (Outside CONUS); and the DD Form 2063, Record of Preparation and Disposition of Remains (Within CONUS), are used to verify that the deceased's remains have been properly cared for by the mortuary contractor.

c. The written plan required by the solicitation provision at DFARS 252.237-7024, Notice of Continuation of Essential Contractor Services, submitted by offerors concurrently with the proposal or offer, allows the contracting officer to assess the offeror's capability to continue providing contractually required services to support the DoD component's mission-essential functions during periods of crisis.

d. The information collected pursuant to the contract clause at DFARS 252.237-7023, Continuation of Essential Contractor Services, allows the contracting officer to provide approval of updates to the contractor's plan provided under the provision at DFARS 252.237-7024, to ensure that the contractor can continue to provide services in support of the DoD component's required mission-essential functions during crisis situations.

DoD Clearance Officer: Mr. Tucker Lucas. Requests for copies of the information collection proposal should be sent to Mr. Lucas at whs.mc-alex.esd.mbx.dd-dod-information-collections@mail.mil.

Jennifer D. Johnson,
Editor/Publisher, Defense Acquisition Regulations System.

[FR Doc. 2025-00400 Filed 1-13-25; 8:45 am]

BILLING CODE 6001-FR-P